INTERNATIONAL TRADE COMMISSION

[Investigation Nos. 701-TA-608 and 731-TA-1420 (Final)]

Steel Racks From China

Determinations

On the basis of the record ¹ developed in the subject investigations, the United States International Trade Commission (“Commission”) determines, pursuant to the Tariff Act of 1930 (“the Act”), that an industry in the United States is materially injured by reason of imports of steel racks from China, provided for in subheadings 7326.90.86, 9403.20.00, and 9403.90.80 of the Harmonized Tariff Schedule of the United States, that have been found by the U.S. Department of Commerce (“Commerce”) to be sold in the United States at less than fair value (“LTFV”), and to be subsidized by the government of China.²

¹ The record is defined in sec. 207.2(f) of the Commission's Rules of Practice and Procedure (19 CFR 207.2(f)).

² Commissioners Randolph J. Stayin and Amy A. Karpel were not members of the Commission at the time of the vote.

Background

The Commission, pursuant to sections 705(b) and 735(b) of the Act (19 U.S.C. 1671d(b) and 19 U.S.C. 1673d(b)), instituted these investigations effective June 20, 2018, following receipt of petitions filed with the Commission and Commerce by the Coalition for Fair Rack Imports and its members. The final phase of the investigations was scheduled by the Commission following notification of preliminary determinations by Commerce that imports of steel racks from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on March 28, 2019 (84 FR 11835). The hearing was held in Washington, DC, on July 16, 2019, and all persons who requested the opportunity were permitted to appear in person or by counsel.

The Commission made these determinations pursuant to sections 705(b) and 735(b) of the Act (19 U.S.C. 1671d(b) and 19 U.S.C. 1673d(b)). It completed and filed its determinations in these investigations on September 9, 2019. The views of the Commission are contained in USITC Publication 4951 (September 2019), entitled Steel Racks from China: Investigation Nos. 701-TA-608 and 731-TA-1420 (Final).

By order of the Commission.
Issued: September 9, 2019.
Lisa Barton,
Secretary to the Commission.

[FR Doc. 2019-19826 Filed 9-12-19; 8:45 am]

BILLING CODE 7020-02-P